DEPARTMENT OF THE INTERIOR

National Park Service

Apostle Islands National Lakeshore General Management Plan, Environmental Impact Statement, Wisconsin

AGENCY: National Park Service, Department of the Interior.

ACTION: Notice of Intent to prepare an Environmental Impact Statement for the General Management Plan, Apostle Islands National Lakeshore.

SUMMARY: Pursuant to the National Environmental Policy Act of 1969, 42 U.S.C. 4332(C), the National Park Service (NPS) is preparing an environmental impact statement for a general management plan for Apostle Islands National Lakeshore, Wisconsin. The environmental impact statement will be approved by the Regional Director, Midwest Region.

The general management plan will establish the overall direction for the park, setting broad management goals for managing the area over the next 15 to 20 years. The plan will prescribe desired resource conditions and visitor experiences that are to be achieved and maintained throughout the park based on such factors as the park's purpose, significance, special mandates, the body of laws and policies directing park management, resource analysis, and the range of public expectations and concerns. The plan, also, will outline the kinds of resource management activities, visitor activities, and developments that would be appropriate in the park in the future.

A range of reasonable alternatives for managing the park will be developed through this planning process and will include, at a minimum, a no-action and a preferred alternative. Major issues the plan will address include changes in visitor use patterns, adequacy and sustainability of existing visitor facilities and park operations, management of natural and cultural resources, and partnership opportunities. The environmental impact statement will evaluate the potential environmental impacts of the alternative management approaches.

As the first phase of the planning process, the NPS is beginning to scope the issues to be addressed in the general management plan/environmental impact statement. All interested persons, organizations, and agencies are encouraged to submit comments and suggestions on issues and concerns that should be addressed in the general management plan/environmental impact statement, and the range of appropriate alternatives that should be examined.

DATES: The NPS is planning to begin public scoping in September 2004 via a newsletter to State and Federal Agencies; associated American Indian tribes; neighboring communities; county commissioners; local organizations, researchers, and institutions; the congressional delegation; and other interested members of the public. In addition, the NPS will hold public scoping meetings regarding the general management plan beginning in October 2004. At least one public meeting will be held in Bayfield, Wisconsin. Specific dates, times, and locations will be announced in the local media, on the Internet at http://www.nps.gov/apis, and will, also, be available by contacting the park's chief of planning and resource management. In addition to attending the scoping meetings, people wishing to provide input to this initial phase of developing the general management plan/environmental impact statement may mail or e-mail comments to the park's chief of planning and resource management at the address below.

ADDRESSES: General park information requests or requests to be added to the project mailing list should be directed to: Jim Nepstad, Chief of Planning and Resource Management, Apostle Islands National Lakeshore, Route 1, Box 4, Bayfield, Wisconsin 54814. Telephone: (715) 779-3398, extension 102, e-mail: jim_nepstad@nps.gov.

FOR FURTHER INFORMATION CONTACT: Jim Nepstad, Chief of Planning and Resource Management, at the address above. Telephone: (715) 779-3398, extension 102, e-mail: jim_nepstad@nps.gov. General information about Apostle Islands National Lakeshore is available on the Internet at http://www.nps.gov/apis.

SUPPLEMENTARY INFORMATION: If you wish to comment on any issues associated with the plan, you may submit your comments by any one of several methods. You may mail comments to Apostle Islands National Lakeshore, Route 1, Box 4, Bayfield, Wisconsin 54814. You may, also, comment via the Internet to apis_comments@nps.gov. Please submit Internet comments as a text file avoiding the use of special characters and any form of encryption. Be sure to include your name and return street address in your Internet message. If you do not receive a confirmation from the system that we have received your Internet message, contact us directly at Apostle Islands National Lakeshore, (715) 779-3398, extension 102. Finally, you may hand-deliver comments to the park at 415 Washington Avenue, Bayfield, Wisconsin 54814.

Our practice is to make comments, including names and home addresses of respondents, available for public review during regular business hours. Individual respondents may request that we withhold their home address from the record, which we will honor to the extent allowable by law. There, also, may be circumstances in which we would withhold from the record a respondent's identity, as allowable by law. If you wish us to withhold your address, you must state this prominently at the beginning of your comment. We will make all submissions from organizations or businesses, and from individuals identifying themselves as representatives or officials of organizations or businesses, available for public inspection in their entirety.

Dated: July 9, 2004.
Ernest Quintana,
Regional Director.

[FR Doc. 04-20023 Filed 9-2-04; 8:45 am]

BILLING CODE 4312-97-P